DEPARTMENT OF DEFENSE

48 CFR Part 252

[DFARS Case 2001-D008]

Defense Federal Acquisition Regulation Supplement; Iceland—Newly Designated Country Under Trade Agreements Act

AGENCY: Department of Defense (DoD).

ACTION: Final rule.

SUMMARY: DoD has issued a final rule amending the Defense Federal Acquisition Regulation Supplement (DFARS) to add Iceland as a designated country under the Trade Agreements Act, as directed by the United States Trade Representative.

EFFECTIVE DATE: September 11, 2001.

FOR FURTHER INFORMATION CONTACT: Ms. Amy Williams, Defense Acquisition Regulations Council, OUSD (AT&L) DP (DAR), IMD 3C132, 3062 Defense Pentagon, Washington, DC 20301-3062. Telephone (703) 602-0288; facsimile (703) 602-0350. Please cite DFRARS Case 2001-D008.

SUPPLEMENTARY INFORMATION:

A. Background

This final rule amends the clauses at DFARS 252.227-7007, Buy American Act—Trade Agreements—Balance of Payments Program, and 252.225-7021, Trade Agreements. The rule adds Iceland to the list of designated countries under the Trade Agreements Act, as directed by the United States Trade Representative. Iceland joined the World Trade Organization Government Procurement Agreement in April 2001.

This rule was not subject to Office of Management and Budget review under Executive Order 12866, dated September 30, 1993.

B. Regulatory Flexibility Act

This final rule does not constitute a significant revision within the meaning of FAR 1.501 and Public Law 98-577 and publication for public comment is not required. However, DoD will consider comments from small entities concerning the affected DFARS subparts in accordance with 5 U.S.C. 610. Such comments should cite DFARS Case 2001-D008.

C. Paperwork Reduction Act

The Paperwork Reduction Act does not apply because the rule does not impose any information collection requirements that require the approval of the Office of Management and Budget under 44 U.S.C. 3501, et seq.

List of Subjects in 48 CFR Part 252

Government procurement.

Michele P. Peterson,
Executive Editor, Defense Acquisition Regulations Council.

Therefore, 48 CFR Part 252 is amended as follows:

1. The authority citation for 48 CFR part 252 continues to read as follows:

Authority: 41 U.S.C. 421 and 48 CFR Chapter 1.

PART 252—SOLICITATION PROVISIONS AND CONTRACT CLAUSES

252.225-7007 [Amended]

2. Section 252.225-7007 is amended in paragraph (a)(4) by adding, in alphabetical order, “Iceland” to the list of countries.

252.225-7021 [Amended]

3. Section 252.225-7021 is amended in paragraph (a)(4) by adding, in alphabetical order, “Iceland” to the list of countries.

[FR Doc. 01-22421 Filed 9-10-01; 8:45 am]

BILLING CODE 5000-04-M